DEPARTMENT OF TRANSPORTATION

Federal Aviation Administration

14 CFR Part 39

[Docket No. FAA-2019-1003; Product Identifier 2018-SW-086-AD]

RIN 2120-AA64

Airworthiness Directives; Leonardo S.p.A. Helicopters

AGENCY: Federal Aviation Administration (FAA), DOT.

ACTION: Notice of proposed rulemaking (NPRM).

SUMMARY: The FAA proposes to adopt a new airworthiness directive (AD) for Leonardo S.p.A. (Leonardo) Model A109E, A109S, A119, AW109SP, and AW119MKII helicopters. This proposed AD would require removing certain main rotor (M/R) floating ring assemblies from service. This proposed AD would also prohibit replacing any washer on any M/R floating ring assembly. This proposed AD is prompted by a report of a washer debonding from the M/R floating ring assembly. The actions of this proposed AD are intended to address an unsafe condition on these products.

DATES: The FAA must receive comments on this proposed AD by February 7, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2019-1003; or in person at Docket Operations between 9 a.m. and 5 p.m., Monday through Friday, except Federal holidays. The AD docket contains this proposed AD, the European Aviation Safety Agency (EASA) AD, the economic evaluation, any comments received, and other information. The street address for Docket Operations is listed above. Comments will be available in the AD docket shortly after receipt.

For service information identified in this proposed rule, contact Leonardo S.p.A. Helicopters, Emanuele Bufano, Head of Airworthiness, Viale G.Agusta 520, 21017 C.Costa di Samarate (Va) Italy; telephone +39-0331-225074; fax +39-0331-229046; or at https://www.leonardocompany.com/en/home. You may review the referenced service information at the FAA, Office of the Regional Counsel, Southwest Region, 10101 Hillwood Pkwy., Room 6N-321, Fort Worth, TX 76177.

FOR FURTHER INFORMATION CONTACT: Kristi Bradley, Aerospace Engineer, Safety Management Section, Rotorcraft Standards Branch, FAA, 10101 Hillwood Pkwy., Fort Worth, TX 76177; telephone 817-222-5110; email kristin.bradley@faa.gov.

SUPPLEMENTARY INFORMATION:

Comments Invited

The FAA invites you to participate in this rulemaking by submitting written comments, data, or views. The FAA also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Discussion

EASA, which is the Technical Agent for the Member States of the European Union, has issued EASA AD No. 2018-0205, dated September 14, 2018, to correct an unsafe condition for Leonardo S.p.A. (formerly Finmeccanica S.p.A., AgustaWestland S.p.A., Agusta S.p.A.; and AgustaWestland Philadelphia Corporation, formerly Agusta Aerospace Corporation) Model A109E, A109S, A119, A109LUH, AW109SP, and AW119MKII helicopters with certain part-numbered M/R floating ring assemblies installed. EASA advises of a report of a washer part number (P/N) 109-0111-23-101 that debonded from the M/R floating ring assembly on a Model A109E helicopter. Investigation results revealed that the M/R floating ring assembly had been improperly repaired, and identified a batch of M/R floating ring assemblies that could also be affected. Due to design similarity, some of those M/R floating ring assemblies may be installed on other A109/A119 helicopter models.

EASA further advises that this condition, if not detected and corrected, could lead to failure of an affected M/R floating ring assembly and significant increase of the pilot workload, possibly resulting in reduced control of the helicopter. Accordingly, the EASA AD requires inspecting the M/R floating ring assembly to identify its serial number (S/N), and depending on findings, replacing affected serial-numbered M/R floating ring assemblies. The EASA AD also prohibits installing those serial-numbered M/R floating ring assemblies on any helicopter and prohibits replacing washer P/N 109-0111-23-101 on an M/R floating ring assembly installed on a helicopter.

FAA's Determination

These helicopters have been approved by EASA and are approved for operation in the United States. Pursuant to the FAA's bilateral agreement with the European Union, EASA has notified the FAA about the unsafe condition described in its AD. The FAA is proposing this AD after evaluating all known relevant information and determining that an unsafe condition is likely to exist or develop on other helicopters of the same type designs.

Related Service Information

The FAA reviewed Leonardo Helicopters Alert Service Bulletin (ASB) No. 109EP-163 for Model A109E helicopters; ASB No. 109S-084 for Model A109S helicopters; ASB No.109SP-125 for Model AW109SP helicopters; and ASB No. 119-092 for Model A119 and AW119MKll helicopters, all Revision A and dated September 13, 2018. This service information contains procedures to identify the S/N of the M/R floating ring assembly and provides instructions for replacing the floating ring assembly if necessary. This service information also specifies replacing certain serial-numbered M/R floating ring assemblies and reporting certain information to Leonardo Helicopters.

Proposed AD Requirements

This proposed AD would require removing from service any M/R floating ring assembly P/N 109-0111-09-101 or P/N 109-0111-09-103 with S/N DA53295148-1, F86782, G130924, J31213, L99, L104, L107, L117, L127, L130, M215, P411, R687, R735, R769, R772, or V71, installed on Model A109E, A109S, A119, AW109SP, and AW119MKII helicopters. This proposed AD would also prohibit installing those M/R floating ring assemblies on any helicopter. Lastly, this proposed AD would prohibit replacing any washer P/N 109-0111-23-101 on any M/R floating ring assembly installed on any helicopter.

Differences Between This Proposed AD and the EASA AD

The EASA AD applies to Model A109LUH helicopters, whereas this AD does not because that model is not FAA type-certified.

Costs of Compliance

The FAA estimates that this proposed AD affects 210 helicopters of U.S. Registry. The FAA also estimates that operators may incur the following costs in order to comply with this proposed AD. Labor costs are estimated at $85 per work-hour.

Inspecting the M/R floating ring assembly would take about 1 work-hour for an estimated cost of $85 per helicopter and $17,850 for the U.S. fleet. Replacing an M/R floating ring assembly would take about 8 work-hours and parts would cost about $5,500 for an estimated cost of $6,180 per floating ring assembly.

According to Leonardo Helicopters, some of the costs of this proposed AD may be covered under warranty, thereby reducing the cost impact on affected individuals. The FAA does not control warranty coverage by Leonardo Helicopters. Accordingly, the FAA has included all costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866,

2. Will not affect intrastate aviation in Alaska, and

3. Will not have a significant economic impact, positive or negative, on a substantial number of small entities under the criteria of the Regulatory Flexibility Act.

The FAA prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Leonardo S.p.A.: Docket No. FAA-2019-1003; Product Identifier 2018-SW-086-AD.

(a) Applicability

This AD applies to Leonardo S.p.A. Model A109E, A109S, A119, AW109SP, and AW119MKII helicopters, certificated in any category, with a main rotor (M/R) floating ring assembly part number (P/N) 109-0111-09-101 or P/N 109-0111-09-103 installed.

(b) Unsafe Condition

This AD defines the unsafe condition as disbonding of the washer from the M/R floating ring assembly. This condition could result in a significant increase of pilot workload and subsequent loss of control of the helicopter.

(c) Comments Due Date

The FAA must receive comments by February 7, 2020.

(d) Compliance

You are responsible for performing each action required by this AD within the specified compliance time unless it has already been accomplished prior to that time.

(e) Required Actions

(1) Within 25 hours time-in-service, remove from service any M/R floating ring assembly P/N 109-0111-09-101 or P/N 109-0111-09-103 with serial number (S/N) DA53295148-1, F86782, G130924, J31213, L99, L104, L107, L117, L127, L130, M215, P411, R687, R735, R769, R772, or V71.

(2) After the effective date of this AD:

(i) Do not install any M/R floating ring assembly P/N 109-0111-09-101 or P/N 109-0111-09-103 with S/N DA53295148-1, F86782, G130924, J31213, L99, L104, L107, L117, L127, L130, M215, P411, R687, R735, R769, R772, or V71 on any helicopter.

(ii) Do not replace any washer P/N 109-0111-23-101 on any M/R floating ring assembly installed on any helicopter.

(f) Special Flight Permits

Special flight permits are prohibited.

(g) Alternative Methods of Compliance (AMOCs)

(1) The Manager, Safety Management Section, Rotorcraft Standards Branch, FAA, may approve AMOCs for this AD. Send your proposal to: Kristi Bradley, Aerospace Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office before operating any aircraft complying with this AD through an AMOC.

(h) Additional Information

(1) Leonardo Helicopters Alert Service Bulletin (ASB) No. 109EP-163, ASB No. 109S-084, ASB No.109SP-125, and ASB No. 119-092, all Revision A and dated September 13, 2018, which are not incorporated by reference, contain additional information about the subject of this AD. For service information identified in this AD, contact Leonardo S.p.A. Helicopters, Emanuele Bufano, Head of Airworthiness, Viale G.Agusta 520, 21017 C.Costa di Samarate (Va) Italy; telephone +39-0331-225074; fax +39-0331-229046; or at https://www.leonardocompany.com/en/home. You may review the referenced service information at the FAA, Office of the Regional Counsel, Southwest Region, 10101 Hillwood Pkwy., Room 6N-321, Fort Worth, TX 76177.

(2) The subject of this AD is addressed in European Aviation Safety Agency (EASA) AD No. 2018-0205, dated September 14, 2018. You may view the EASA AD on the internet at https://www.regulations.gov in the AD Docket.

(i) Subject

Joint Aircraft Service Component (JASC) Code: 6220, Main Rotor Head.

Issued in Fort Worth, Texas, on November 27, 2019.
Lance T. Gant,
Director, Compliance & Airworthiness Division, Aircraft Certification Service.

[FR Doc. 2019-26425 Filed 12-6-19; 8:45 am]

BILLING CODE 4910-13-P